DEPARTMENT OF HEALTH AND HUMAN SERVICES

Notice and Solicitation for Written Comments on the Draft CDC Health Protection Research Guide, 2006-2015

AGENCY: Centers for Disease Control and Prevention/Agency for Toxic Substances and Disease Registry.

SUMMARY: The U.S. Centers for Disease Control and Prevention/Agency for Toxic Substances and Disease Registry (hereto referred to as CDC) announces the availability for public comment of the draft CDC Health Protection Research Guide, 2006-2015. CDC is requesting input on this Research Guide because maximizing the health impact of public health research can only be achieved through the collective efforts of CDC, other Federal agencies, State and local partners, academic partners, business partners, non-profit organizations, professional societies, and the public. Please provide input on any aspect of the Research Guide, including but not limited to:

• Scope and use of the Research Guide (including whether it has identified the areas of health protection research that most need to be addressed within the next decade);

• Relevance and level of specificity of the proposed research topics;

• Additions, deletions or modifications to the proposed research topics;

• Research Guide development process; and

• Other improvements to the Research Guide.

DATES: The public comment period is 60 days long. Written comments must be received by close of business on January 15, 2006 at either of the addresses listed below.

ADDRESSES: The draft CDC Health Protection Research Guide, 2006-2015 is available for review by visiting the Internet site, http://www.rsvpBOOK.com/custom_pages/50942/index.php, or by contacting Jamila Rashid, PhD, Senior Health Scientist, Centers for Disease Control and Prevention, Office Of Public Health Research, 1600 Clifton Road, NE., MD D-72, Atlanta, GA 30333, 404-639-4621, ResearchGuide@cdc.gov, for a hard copy. Written comments may be submitted electronically at the Internet site or at the email address listed above. Written comments may also be sent to the mailing address above.

FOR FURTHER INFORMATION CONTACT: Additional information about the CDC Health Protection Research Guide is available via the Office of Public Health Research Web site, http://www.cdc.gov/od/ophr/cdcra.htm or may be obtained by communicating with the contact whose name and telephone number is listed above.

SUPPLEMENTATY INFORMATION: On January 10, 2005, the Centers for Disease Control and Prevention launched an effort to develop its first ever, agency-wide CDC Public Health Protection Research Guide, 2006-2015. The new Research Guide will address and support CDC's Health Protection Goals (For additional information about the Goals please see http://www.cdc.gov/about/goals).

The Research Guide will also provide overall guidance for CDC's intramural and extramural research as well as serve as an effective planning and communication tool for CDC's public health research.

The public comment period will give researchers, representatives of CDC's key partner organizations and the public the opportunity to voice their opinions regarding the CDC Health Protection Research Guide, 2006-2015 and the future direction of CDC's public health research. The public comment period will begin on November 18, 2005 and end on January 15, 2006.

The Chief Science Officer, CDC, has been delegated the authority to sign general Federal Register notices for both the CDC and ATSDR.

Dated: November 9, 2005.
Dixie E. Snider, Jr.,
Chief Science Officer, Centers for Disease Control and Prevention.

[FR Doc. 05-22719 Filed 11-17-05; 8:45 am]

BILLING CODE 4163-18-P